DEPARTMENT OF ENERGY

Federal Energy Regulatory Commission

Combined Notice of Filings #1

Take notice that the Commission received the following electric corporate filings:

Docket Numbers: EC16-120-000.

Applicants: Otter Tail Power Company.

Description: Errata [replacing Exhibit M] to May 17, 2016 Otter Tail Power Company Request For Approvals Pursuant To Section 203 Of The Federal Power Act.

Filed Date: 6/14/16.

Accession Number: 20160614-5165.

Comments Due: 5 p.m. ET 6/24/16.

Take notice that the Commission received the following exempt wholesale generator filings:

Docket Numbers: EG16-117-000.

Applicants: Innovative Owner 43, LLC.

Description: Notice of Self-Certification of Exempt Wholesale Generator Status of Innovative Owner 43, LLC.

Filed Date: 6/14/16.

Accession Number: 20160614-5156.

Comments Due: 5 p.m. ET 7/5/16.

Take notice that the Commission received the following electric rate filings:

Docket Numbers: ER12-1563-002; ER12-1562-002.

Applicants: Cayuga Operating Company, LLC, Somerset Operating Company, LLC.

Description: Notice of Non-Material Change in Status of Cayuga Operating Company, LLC, et al.

Filed Date: 6/15/16.

Accession Number: 20160615-5062.

Comments Due: 5 p.m. ET 7/6/16.

Docket Numbers: ER14-2529-002.

Applicants: Pacific Gas and Electric Company.

Description: Report Filing: TO16 Compliance Electric Refund Report to be effective N/A.

Filed Date: 6/14/16.

Accession Number: 20160614-5155.

Comments Due: 5 p.m. ET 7/5/16.

Docket Numbers: ER16-1923-000.

Applicants: LWP Lessee, LLC.

Description: Baseline eTariff Filing: Filing of LWP Lessee Rate Schedule FERC No. 1 re Reactive Power Compensation to be effective 8/14/2016.

Filed Date: 6/14/16.

Accession Number: 20160614-5145.

Comments Due: 5 p.m. ET 7/5/16.

Docket Numbers: ER16-1924-000.

Applicants: Bison Solar LLC.

Description: Baseline eTariff Filing: Market Based Rate Tariff to be effective 8/1/2016.

Filed Date: 6/14/16.

Accession Number: 20160614-5159.

Comments Due: 5 p.m. ET 7/5/16.

Docket Numbers: ER16-1925-000.

Applicants: Pavant Solar II LLC.

Description: Baseline eTariff Filing: Pavant Solar Tariff to be effective 8/1/2016.

Filed Date: 6/14/16.

Accession Number: 20160614-5164.

Comments Due: 5 p.m. ET 7/5/16.

Docket Numbers: ER16-1926-000.

Applicants: San Isabel Solar LLC.

Description: Baseline eTariff Filing: San Isabel MBR to be effective 8/1/2016.

Filed Date: 6/15/16.

Accession Number: 20160615-5000.

Comments Due: 5 p.m. ET 7/6/16.

Docket Numbers: ER16-1927-000.

Applicants: Southern California Edison Company.

Description: § 205(d) Rate Filing: Service Agreement No. 890 to be effective 6/16/2016.

Filed Date: 6/15/16.

Accession Number: 20160615-5029.

Comments Due: 5 p.m. ET 7/6/16.

Docket Numbers: ER16-1928-000.

Applicants: PJM Interconnection, L.L.C.

Description: § 205(d) Rate Filing: Amendment to WMPA SA No. 3250, Queue No. W2-091 to be effective 2/5/2015.

Filed Date: 6/15/16.

Accession Number: 20160615-5049.

Comments Due: 5 p.m. ET 7/6/16.

Docket Numbers: ER16-1929-000.

Applicants: Midcontinent Independent System Operator, Inc.

Description: § 205(d) Rate Filing: 2016-06-15_SA 2923 ATC-Quilt Block Wind Farm E&P (J395) to be effective 6/16/2016.

Filed Date: 6/15/16.

Accession Number: 20160615-5050.

Comments Due: 5 p.m. ET 7/6/16.

Docket Numbers: ER16-1930-000.

Applicants: Southern California Edison Company.

Description: Tariff Cancellation: Notices of Cancellation DSA—Summer Solar E2, F2, G2, H2 to be effective 12/27/2015.

Filed Date: 6/15/16.

Accession Number: 20160615-5056.

Comments Due: 5 p.m. ET 7/6/16.

Docket Numbers: ER16-1931-000.

Applicants: Pacific Gas and Electric Company.

Description: Notice of Termination of Small Generator Interconnection Service Agreement No. 326 of Pacific Gas and Electric Company.

Filed Date: 6/15/16.

Accession Number: 20160615-5061.

Comments Due: 5 p.m. ET 7/6/16.

Docket Numbers: ER16-1932-000.

Applicants: Tanner Street Generation, LLC.

Description: § 205(d) Rate Filing: Category 2 Seller Request in NE to be effective 6/16/2016.

Filed Date: 6/15/16.

Accession Number: 20160615-5065.

Comments Due: 5 p.m. ET 7/6/16.

Docket Numbers: ER16-1933-000.

Applicants: Public Service Electric and Gas Company.

Description: Baseline eTariff Filing: PECO PSE&G Amtrak to be effective 6/15/2016.

Filed Date: 6/15/16.

Accession Number: 20160615-5066.

Comments Due: 5 p.m. ET 7/6/16.

Docket Numbers: ER16-1934-000.

Applicants: Drift Marketplace, Inc.

Description: Baseline eTariff Filing: Drift Marketplace, Inc. Market Based Rate Tariff to be effective 6/15/2016.

Filed Date: 6/15/16.

Accession Number: 20160615-5068.

Comments Due: 5 p.m. ET 7/6/16.

Docket Numbers: ER16-1935-000.

Applicants: Union Power Partners, L.P.

Description: Tariff Cancellation: Complete Cancellation of FERC Electric Tariff to be effective 6/16/2016.

Filed Date: 6/15/16.

Accession Number: 20160615-5069.

Comments Due: 5 p.m. ET 7/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2016.
Kimberly D. Bose,
Secretary.

[FR Doc. 2016-14600 Filed 6-20-16; 8:45 am]

BILLING CODE 6717-01-P